COMMODITY FUTURES TRADING COMMISSION

Sunshine Act Meetings

TIME AND DATE: 11:30 a.m. EST, Wednesday, February 28, 2024.

PLACE: CFTC headquarters office, Washington, DC.

STATUS: Closed.

MATTERS TO BE CONSIDERED: Matters relating to the selection of a candidate to serve as the Inspector General of the Commission. In the event that the time, date, or location of this meeting changes, an announcement of the change, along with the new time, date, and/or place of the meeting will be posted on the Commission's website at https://www.cftc.gov/.

CONTACT PERSON FOR MORE INFORMATION: Christopher Kirkpatrick, 202-418-5964.

Authority: 5 U.S.C. 552b.

Dated: February 15, 2024.
Robert Sidman,
Deputy Secretary of the Commission.

[FR Doc. 2024-03503 Filed 2-15-24; 4:15 pm]

BILLING CODE 6351-01-P